DEPARTMENT OF THE INTERIOR

National Park Service

[NPS-WASO-NAGPRA-20585: PPWOCRADN0-PCU00RP14.R50000]

Notice of Inventory Completion: U.S. Department of Defense, Army Corps of Engineers, Omaha District, Omaha, NE., and State Archaeological Research Center, Rapid City, SD

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by May 5, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains and associated funerary objects under the control of the Omaha District. The human remains and associated funerary objects were removed from site 39BF243, in Buffalo County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by State Archaeological Research Center (SARC) and Omaha District professional staff in consultation with representatives of the Yankton Sioux Tribe of South Dakota.

History and Description of the Remains

In 1964, human remains representing, at minimum, three individuals were removed from site 39BF243 in Buffalo County, SD. They are presently located at the SARC and are under the control of the Omaha District. The human remains were removed by Robert Gant, Assistant Director of the W.H. Over Museum (WHOM), when three coffin burials were disturbed by highway construction activities at Big Bend Dam, along the Missouri River. Funerary objects were associated with the first two individuals, but not the third. The human remains and associated funerary objects were transported to WHOM.

In 1974, the collections from Individuals 1 and 2 were transferred to the newly established SARC. At that time, the location of the human remains from Individual 3 was not known. The human remains from Individuals 1 and 2 were then transferred to the University of Tennessee-Knoxville to be inventoried by Dr. William Bass. After the return of the human remains to SARC, a portion of the human remains from Individual 2 were repatriated to the Oglala Lakota Nation in 1982.

In 1993, SARC conducted a review of the collections and located the human remains and associated funerary objects from Individual 1, identified as a 1.5 to 2.5 year old infant. Also located was additional skeletal material from Individual 2, identified as a child between 6 and 8 years of age, along with the associated funerary objects. In 2000, the human remains of Individual 3, identified as an adult male between 18 and 22 years, were found at the collection center for the Archeology Lab, Augustana College-Sioux Falls. They were then transferred to SARC and placed with the collections from Individuals 1 and 2. No known individuals were identified.

The 11,143 associated funerary objects are 6 copper beads, 10,991 glass beads, 1 fragment of a paper book, 3 fragment of a glass bottle, 31 buttons (metal, glass, pottery), 8 toy fragments (china), 9 cloth fragments, 2 coffin wood fragments, 1 metal and wood comb, 1 Bisque doll, 5 faunal fragments, 1 floral fragment, 1 glass knob, 2 iron rings, 1 iron cup handle, 4 leather fragments, 1 lot of wood, metal, and cloth, 9 metal nails, 3 fragments of paper, 1 plastic flower pendant, 1 pewter pedestal, 13 fragments of ironstone saucer, 1 sewing pin book, 1 tin pill box, 40 fragments tin plate and cup, 3 tin spoons, 2 toy sad irons, and 1 wooden thread spool.

The human remains were collected from coffin burials and are determined to be Native American based the location of the site near a Native American village at the townsite of Fort Thompson and the funerary objects associated with the burials. Based on the use of coffins, the mix of European and Native elements among the funerary objects, and the manufacturing dates for an ironstone saucer, a Bisque done, wire nails, and pink seed beads, the human remains date after A.D. 1870. This represents the Early Reservation Period at the nearby Crow Creek Indian Reservation, which, by the 1870s, was inhabited by the Yanktonai. The associated funerary objects are consistent with Yanktonai historic burials. Today, the Yanktonai are represented by the Yankton Sioux Tribe of South Dakota.

Determinations Made by the Omaha District

Officials of the Omaha District have determined that:

• Pursuant to 25 U.S.C. 3001(9), the human remains described in this notice represent the physical remains of three individuals of Native American ancestry.

• Pursuant to 25 U.S.C. 3001(3)(A), the 11,143 objects described in this notice are reasonably believed to have been placed with or near individual human remains at the time of death or later as part of the death rite or ceremony.

• Pursuant to 25 U.S.C. 3001(2), there is a relationship of shared group identity that can be reasonably traced between the Native American human remains and associated funerary objects and the Yankton Sioux Tribe of South Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capital Ave., Omaha, NE 68102, telephone, (402) 995-2674, email sandra.v.barnum@usace.army.mil, by May 5, 2016. After that date, if no additional requestors have come forward, transfer of control of the human remains and associated funerary objects to the Yankton Sioux Tribe of South Dakota may proceed.

The Omaha District is responsible for notifying the Yankton Sioux Tribe of South Dakota that this notice has been published.

Dated: March 10, 2016.
Melanie O'Brien,
Manager, National NAGPRA Program.

[FR Doc. 2016-07768 Filed 4-4-16; 8:45 am]

BILLING CODE 4310-50-P